DEPARTMENT OF LABOR

Employment and Training Administration

[TA-W-70,337]

Milliken & Company, Hatch Plant, Columbus, OH; Notice of Termination of Investigation

Pursuant to Section 221 of the Trade Act of 1974, as amended, an investigation was initiated in response to a petition filed on May 20, 2009, by the workers of Milliken & Company, Hatch Plant, Columbus, Ohio.

The petition is a duplicate petition (TA-W-70,335), filed on May 19, 2009, that is subject of an ongoing investigation. Therefore, further investigation in this case would serve no purpose and the investigation has been terminated.

Signed at Washington, DC, this 19th of August 2009.
Elliott S. Kushner,
Certifying Officer, Division of Trade Adjustment Assistance.

[FR Doc. E9-29159 Filed 12-7-09; 8:45 am]

BILLING CODE 4510-FN-P